DEPARTMENT OF COMMERCE

International Trade Administration

[C-475-819]

Certain Pasta From Italy: Preliminary Results of Countervailing Duty Administrative Review, Rescission in Part, and Preliminary Intent To Rescind in Part; 2013

AGENCY: Enforcement and Compliance, International Trade Administration, Department of Commerce.

SUMMARY: The Department of Commerce (the Department) is conducting an administrative review of the countervailing duty (CVD) order on certain pasta (pasta) from Italy. The period of review (POR) is January 1, 2013, through December 31, 2013. We preliminarily find that DeMatteis Agroalimentare S.p.A. (DeMatteis) (also known as, DeMatteis Agroalimentare SpA) and La Molisana S.p.A. received countervailable subsidies during the POR. We are rescinding the review with respect to Industria Alimentare Filiberto Bianconi 1947 S.p.A. (Bianconi) and Delverde Industrie Alimentari S.p.A. (Delverde), as both companies timely withdrew their requests for review. For reasons discussed below, the Department preliminarily intends to rescind the review, in part, with respect to La Molisana Industrie Alimentari S.p.A. (LMIA). Interested parties are invited to comment on these preliminary results.

DATES: Effective date: August 10, 2015.

FOR FURTHER INFORMATION CONTACT: Jennifer Meek or Joseph Shuler, AD/CVD Operations, Office I, Enforcement and Compliance, International Trade Administration, U.S. Department of Commerce, 14th Street and Constitution Avenue NW., Washington, DC 20230; telephone: (202) 482-2778 and (202) 482-1293, respectively.

Scope of the Order

The scope of the order consists of certain pasta from Italy. The merchandise subject to the order is currently classifiable under items 1901.90.90.95 and 1902.19.20 of the Harmonized Tariff Schedule of the United States (HTSUS). Although the HTSUS subheadings are provided for convenience and customs purposes, the written description of the merchandise subject to the order is dispositive. A full description of the scope of the order is contained in the “Decision Memorandum for Preliminary Results of Countervailing Duty Administrative Review: Certain Pasta from Italy,” from Christian Marsh, Deputy Assistant Secretary for Antidumping and Countervailing Duty Operations, to Ronald K. Lorentzen, Acting Assistant Secretary for Enforcement and Compliance, dated July 31, 2015 (Preliminary Decision Memorandum), and hereby adopted by this notice.

The Preliminary Decision Memorandum is a public document and is on file electronically via Enforcement and Compliance's Antidumping and Countervailing Duty Centralized Electronic Service System (ACCESS). ACCESS is available to registered users at http://access.trade.gov and available to all parties in the Central Records Unit, room B8024 of the main Department of Commerce building. In addition, a complete version of the Preliminary Decision Memorandum can be accessed directly on the Internet at http://trade.gov/enforcement/. The signed and electronic versions of the Preliminary Decision Memorandum are identical in content. A list of topics discussed in the Preliminary Decision Memorandum is provided in the Appendix to this notice.

Methodology

The Department is conducting this review in accordance with section 751(a)(1)(A) of the Tariff Act of 1930, as amended (the Act). For each program found countervailable, we preliminarily determine that there is a countervailable subsidy, i.e., a government-provided financial contribution that gives rise to a benefit to the recipient, and that the subsidy is specific.¹

¹ See sections 771(5)(B)and (D) of the Act regarding financial contribution; section 771(5)(E) of the Act regarding benefit; and section 771(5A) of the Act regarding specificity.

In making the preliminary findings, we relied, in part, on an adverse inference in selecting from among the facts available in accordance with sections 776(a) and (b) of the Act because we find that the Government of Italy did not act to the best of its ability to respond to the Department's requests for information.² For a full description of the methodology underlying our conclusions, see the Preliminary Decision Memorandum.

² For further information, see “Use of Facts Otherwise Available and Adverse Inferences” in the Preliminary Decision Memorandum.

Partial Rescission

As discussed in the Preliminary Decision Memorandum, the companies Bianconi, and Delverde timely withdrew their requests for administrative review of themselves. No other parties requested reviews of these companies. The Department, pursuant to 19 CFR 351.213(d)(1), is therefore rescinding this administrative review with respect to Bianconi and Delverde.

Preliminary Intent To Rescind

We initiated a review for LMIA. However, as explained in the Preliminary Decision Memorandum, the record demonstrates that LMIA ceased operations prior to the POR. Moreover, La Molisana reported that all entries under either company name (La Molisana or LMIA) were of subject merchandise produced and exported by La Molisana. Accordingly, because we find that LMIA was not operational during the POR, and made no entries of subject merchandise during the POR, we preliminarily intend to rescind the review with respect to LMIA.

Preliminary Results of the Review

In accordance with section 751(a)(1)(A) of the Act and 19 CFR 351.221(b)(4)(i), we calculated individual subsidy rates for De Matteis and La Molisana for the period January 1, 2013, through December 31, 2013. We preliminarily find that the net subsidy rates for DeMatteis and La Molisana are as follows:

Company | Subsidy rate (percent)
DeMatteis Agroalimentare S.p.A. | 2.12
La Molisana, SpA | 0.32

Disclosure and Public Comment

The Department intends to disclose calculations performed for these preliminary results to the parties within five days of the date of publication of this notice.³ Interested parties may submit case briefs no later than 30 days after the day on which these preliminary results are published in the Federal Register.⁴ Rebuttal briefs, which must be limited to issues raised in case briefs, may be submitted by no later than five days after the deadline for case briefs.⁵ Parties who submit case briefs or rebuttal briefs in this proceeding should submit with each argument: (1) A statement of the issue; (2) a brief summary of the argument; and (3) a table of authorities.⁶ The summary of the argument should be limited to five pages total, including footnotes.

³ See 19 CFR 351.224(b).

⁴ See 19 CFR 351.309(c)(1)(ii).

⁵ See 19 CFR 351.309(d).

⁶ See 19 CFR 351.309(c)(2) and (d)(2).

Interested parties who wish to request a hearing must submit a written request to the Assistant Secretary for Enforcement and Compliance, U.S. Department of Commerce within 30 days after the date of publication of this notice.⁷ Requests should contain the party's name, address, and telephone number, the number of participants, and a list of the issues to be discussed. Issues raised in the hearing will be limited to those raised in the briefs.⁸ If a request for a hearing is made, the Department intends to hold the hearing at the U.S. Department of Commerce, 14th Street and Constitution Avenue NW., Washington, DC 20230, on a date and at a time and location to be determined. Parties should confirm by telephone the date, time, and location of the hearing two days before the scheduled date.

⁷ See 19 CFR 351.310(c).

⁸ Id.

All submissions, with limited exceptions, must be filed electronically using ACCESS.⁹ An electronically filed documents must be received successfully in their entirety by the Department's electronic records system, ACCESS, by 5 p.m. Eastern Time (ET) on the due date. Documents excepted from the electronic submission requirements must be filed manually (i.e. in paper form) with the APO/Dockets Unit in Room 18022 and stamped with the date and time of receipt by 5 p.m. ET on the due date.¹⁰

⁹ See generally 19 CFR 351.303.

¹⁰ See Antidumping and Countervailing Duty proceedings: Electronic Filing Procedures; Administrative Protective Order Procedure, 76 FR 39263 (July 6, 2011).

Unless the deadline is extended pursuant to section 751(a)(3)(A) of the Act, the Department intends to issue the final results of this administrative review, including our analysis of and responses to issues raised by the parties in their comments, within 120 days after publishing these preliminary results.

Assessment Rates

In accordance with 19 CFR 351.221(b)(4)(i), we assigned a subsidy rate for the producer/exporter subject to this administrative review. Upon issuance of the final results, the Department shall determine, and U.S. Customs and Border Protection (CBP) shall assess, countervailing duties on all appropriate entries covered by this review. We intend to issue instructions to CBP 15 days after publication of the final results of this review.

For the rescinded companies, countervailing duties shall be assessed at rates equal to the cash deposit of estimated countervailing duties required at the time of entry, or withdrawal from warehouse, for consumption, during the period January 1, 2013, through December 31, 2013, in accordance with 19 CFR 351.212(c)(1)(i). The Department intends to issue appropriate assessment instructions directly to CBP 15 days after publication of this notice.

Cash Deposit Requirements

Also in accordance with section 751(a)(2)(C) of the Act, the Department intends to instruct CBP to collect cash deposits of estimated countervailing duties in the amount shown above for De Matteis and La Molisana, on shipments of subject merchandise entered, or withdrawn from warehouse, for consumption on or after the date of publication of the final results of this review. For all non-reviewed firms, we will instruct CBP to continue to collect cash deposits at the most-recent company-specific or all-others rate applicable to the company, as appropriate. These cash deposit requirements, when imposed, shall remain in effect until further notice.

These preliminary results are issued and published in accordance with sections 751(a)(1) and 777(i)(1) of the Act and 19 CFR 351.213 and 351.221(b)(4).

Dated: July 31, 2015.
Ronald K. Lorentzen,
Acting Assistant Secretary for Enforcement and Compliance.

Appendix I

List of Topics Discussed in the Preliminary Decision Memorandum

A. Summary

B. Background

C. Scope of the Order

D. Partial Rescission of the Administrative Review

E. Use of Facts Otherwise Available and Adverse Inferences

F. Loan Benchmarks and Discount Rates

G. Subsidy Valuation Information

H. Analysis of Programs

I. Recommendation

[FR Doc. 2015-19613 Filed 8-7-15; 8:45 am]

BILLING CODE 3510-DS-P